DEPARTMENT OF ENERGY

Federal Energy Regulatory Commission

[Project No. 4362]

Inman Mills, SC; Notice of Existing Licensee's Failure To File Notice of Intent to File a Subsequent License Application

November 29, 2007.

By August 31, 2007, Inman Mills, the existing licensee for the Riverdale Hydroelectric Project No. 4362,¹ was required to file a notice of intent stating whether it intended to file an application for a subsequent minor license. The existing license for Project No. 4362 expires on August 31, 2012.

¹ In April 2006, Commission staff approved a transfer of the license from Inman Mills to Riverdale Development Venture LLC, effective upon the transferee, within 60 days of the transfer order, signing and returning an acceptance sheet and submitting certified copies of the instruments of conveyance (115 FERC ¶62,076). Transferee did not file the required documents, and Inman Mills therefore remains the licensee.

The 1,240-kilowatt project is located on the Enoree River, near Enoree, in Spartanburg County, South Carolina. No federal lands are affected.

The principal project works consist of: (1) A 425-foot-long, 12-foot-high gravity reinforced concrete dam topped with 2-foot flashboards; (2) a 110-foot-long, 9-foot-diameter penstock; (3) a powerhouse separate from the dam containing a 1,240 kW capacity generating unit; (4) a reservoir with a surface area of nine acres at normal pool elevation of 512 feet mean sea level and a gross storage capacity of 22 acre-feet; and (5) appurtenant facilities. The average annual generation at the project is 5.4 million kWh.

Pursuant to section 16.19(b) of the Commission's regulations, 18 CFR 16.9(b) (2007), an existing licensee with a minor license must notify the Commission whether or not the licensee intends to file an application for a subsequent new license.

Inman Mills has not filed a notice of intent to file an application for a subsequent license for this project.

Pursuant to section 16.23(b) of the Commission's regulations, an existing licensee that fails to file a notice of intent pursuant to section 16.6(b) shall be deemed to have filed a notice of intent indicating that it does not intend to file an application for subsequent license.

Pursuant to section 16.20 of the Commission's regulations, applications for subsequent license (except from the existing licensee which is prohibited from filing) must be filed with the Commission at least 24 months prior to the expiration of the existing license. Applications for license for this project must be filed by August 31, 2010. Questions concerning this notice should be directed to Sergiu Serban at (202) 502-6211 or sergiu.serban@ferc.gov.

Kimberly D. Bose,
Secretary.

[FR Doc. E7-23625 Filed 12-5-07; 8:45 am]

BILLING CODE 6717-01-P